DEPARTMENT OF ENERGY

Federal Energy Regulatory Commission

[Docket Nos. ER98-3809-000, et al.]

3E Technologies, Inc.. et al.; Notice of Institution of Proceeding and Refund Effective Date

June 1, 2005.

In the matter of: ER98-3809-000, ER97-2867-000, ER99-2369-000, ER98-4685-000, ER00-3109-001, ER00-105-000, ER03-770-000, ER02-1084-000, ER96-1818-000, ER97-512-000, ER00-861-000, ER96-1145-000, ER01-1758-000, ER00-2823-000, ER97-464-000, ER97-2045-000, ER99-2792-000, ER98-3378-000, ER97-2132-000, ER01-2355-000, ER00-679-000, ER98-1821-000, ER02-246-000, ER97-886-000, ER98-4515-000, ER98-701-000, ER01-1701-000, ER02-246-000, ER01-2692-000, ER00-2945-000, ER01-2138-000, ER01-1183-000, ER01-390-000, ER96-2640-000, ER90-225-000, ER99-964-000, ER00-2187-000, ER97-1968-000, ER05-737-000, ER90-24-000, ER02-246-000, ER01-1836-000, ER98-1790-000, ER01-2562-000, ER02-1118-000, ER96-1410-000, ER01-544-000, ER96-2624-000, ER01-138-000, ER01-2071-000, ER02-1866-000, ER94-1161-000, ER99-2774-000, ER94-1099-000, ER99-3098-000, ER94-1478-000, ER98-2020-000, ER03-1294-000, ER98-2918-000, ER96-358-000, ER01-2221-000, ER00-874-000, ER96-138-000, ER99-2061-000, ER99-254-000, ER01-1166-000, ER96-2964-000, ER98-3233-000, ER01-2439-000, ER01-666-000, ER97-382-000, ER00-3039-000, ER96-918-000, ER00-1258-000, ER97-3580-000, ER99-2454-000, ER02-687-000, ER00-2706-000, ER00-2392-001, ER02-1173-000, ER96-795-000, ER96-1933-000, ER01-1078-000, ER01-2405-000, ER98-4334-000, ER02-1600-000, ER98-2535-000, ER01-1760-000, ER02-1366-000, ER01-3023-000, ER01-2129-000, ER96-1819-000, ER01-2395-000, ER95-802-000, ER98-3478-000, ER00-1519-000, ER94-6-000, ER01-688-000, ER00-2306-000, ER95-784-000, ER95-295-000, ER95-232-000, ER03-1259-000, ER95-1018-000, ER97-2904-000, ER94-1672-000, ER99-3554-000, ER02-30-000, ER96-1947-000, ER01-1507-000, ER00-1781-000, ER98-1992-000, ER99-801-000, ER01-95-000, ER99-1156-000, ER95-78-000, ER96-2027-000, ER99-1293-000, ER96-2143-000, ER01-2509-000, ER01-1336-002, ER02-1238-000, ER97-610-000, ER95-1278-000, ER95-1374-000, ER94-1593-000, ER95-192-000, ER01-352-000, ER98-2618-000, ER99-2537-000, ER97-2681-000, ER96-1122-000, ER96-2892-000, ER96-2585-000, ER98-1915-000, ER00-795-000, ER01-2224-000, ER00-774-000, ER94-152-000, ER02-245-000, ER97-1716-000, ER01-904-000, ER98-622-000, ER02-41-000, ER98-3048-000, ER98-1125-000, ER01-1479-000, ER02-845-000, ER97-181-000, ER01-2783-000, ER99-2883-000, ER97-18-000, ER95-379-000, ER03-372-000, ER98-3719-000, ER02-417-000, ER01-1821-000, ER95-72-000, ER99-3275-000, ER96-2303-000, ER97-3187-000, ER96-1-000, ER98-4333-000, ER01-2463-000, ER95-968-000, ER99-4380-000, ER99-1876-000, ER96-404-000, ER00-23-000, ER02-809-000, ER01-2760-000, ER96-1516-000, ER01-1121-000, ER99-2109-000, ER98-2603-000, ER95-362-000, ER01-542-000, ER98-4643-000, ER99-1228-000, ER96-3107-000, ER00-167-000, ER96-2591-000, ER97-870-000, ER01-2217-002, ER96-2524-000, ER00-1250-000, ER95-581-000, ER95-1787-000, ER97-4185-000, ER01-2694-000, ER99-3571-000, ER96-2241-000, ER02-298-000, ER01-373-000, ER00-494-000, ER98-3184-000, ER98-1055-000, ER96-1316-000, ER01-3148-000, ER95-692-000, ER98-564-000, ER01-2234-000, ER97-3428-000, ER04-957-000, ER96-105-000, ER96-3092-000, ER93-3-000, ER01-1709-000, ER02-1046-000, ER96-2830-000, ER98-537-000, ER00-1928-000 and EL05-111-000; AC Power Corporation, ACES Power Marketing LLC, ACN Power, Inc., Adirondack Hydro Development Corporation, AI Energy, Inc., AIG Energy Inc., Alcan Power Marketing Inc., Alliance Power Marketing, Inc., A'Lones Group, Inc., Alrus Consulting, LLC, Alternate Power Source, Inc., Altorfer Inc., American Cooperative Services, Inc., Amvest Coal Sales, Inc., Amvest Power, Inc., Archer Daniels Midland Company, Astra Power, LLC, Atlantic Energy Technologies, Inc., Beacon Generating, LLC, Black River Power, LLC, Bollinger Energy Corporation, Boston Edison Company, Brooklyn Navy Yard Cogeneration Partners, LP, Cadillac Renewable Energy LLC, California Polar Power Broker, L.L.C., Callaway Golf Company, Cambridge Electric Light Company, Canastota Windpower, LLC, Candela Energy Corporation, Capital Energy, Inc., Celerity Energy of New Mexico, LLC, Chandler Wind Partners, Inc., CHI Power Marketing, Inc., Chicago Electric Trading, L.L.C., Cielo Power Market, L.P., CMS Distributed Power, L.L.C., Colonial Energy, Inc., Commerce Energy Inc., Commonwealth Atlantic L.P., Commonwealth Electric Company, Community Energy, Inc., Competisys LLC, Competitive Energy Services, LLC, Continental Electric Cooperative Services, Inc., Cook Inlet Energy Supply L.P., Cook Inlet Power, LP, Cumberland Power, Inc., Delta Person Limited Partnership, Desert Power, L.P., Desert Southwest Power, LLC, Direct Electric Inc., Duke Energy Trading and Marketing, L.L.C., Eclipse Energy, Inc., EGC 1999 Holding Company, L.P., Electrade Corporation, Energy Clearinghouse Corp., Energy Cooperative of New York, Inc., Energy PM, Inc., Energy Resource Management Corp., Energy Transfer-Hanover Ventures, LP, Energy West Resources, Inc., EnergyOnline, Inc., Enjet, Inc., ENMAR Corporation, Enron Sandhill Limited Partnership, Enserco Energy Inc., Environmental Resources Trust, Inc., Equitec Power, LLC, EWO Marketing, L.P., Exact Power Co., Inc., Exeter Energy Limited Partnership, Federal Energy Sales, Inc., First Electric Cooperative Corporation, First Power, LLC, Florida Keys Electric Cooperative Association, Inc., FMF Energy, Inc., Foote Creek IV, LLC, Fresno Cogeneration Partners, L.P., Front Range Power Company, LLC, Gateway Energy Marketing, Gelber Group, Inc., George Colliers, Inc., GNA Energy, LLC, Golden Valley Power Company, Green Mountain Energy Company, Hafslund Energy Trading LLC, Haleywest L.L.C., Hess Energy Power & Gas Company, LLC, Hinson Power Company, LLC, Holt Company of Ohio, ICC Energy Corporation, IDACORP Energy, LP, IEP Power Marketing, LLC, INFINERGY Services, LLC, InPower Marketing Corporation, InterCoast Power Marketing Company, IPP Energy LLC, It's Electric & Gas, L.L.C., J. Anthony & Associates Ltd, Kaztex Energy Ventures, Inc., Kimball Power Company, Kloco Corporation, Kohler Company, Lake Benton Power Partners, LLC, Lambda Energy Marketing Company, Lone Star Steel Sales Company, Longhorn Power, LP, LS Power Marketing, LLC, Lumberton Power, LLC, Marquette Energy, LLC, Medical Area Total Energy Plant, Inc., Metro Energy Group, LLC, Miami Valley Lighting, Inc., Michigan Gas Exchange, L.L.C., Mid-American Resources, Inc., Midwest Energy, Inc., Monmouth Energy, Inc., Monterey Consulting Associates, Inc, Morrow Power, LLC, Mountainview Power Partners II, LLC, MPC Generating, LLC, Murphy Oil USA, Inc., NAP Trading and Marketing, Inc., National Fuel Resources, Inc., National Power Exchange Corp., National Power Management Company, Natural Gas Trading Corporation, Nautilus Energy Company, Navitas, Inc., New Millennium Energy Corp., NFR Power, Inc., NGTS Energy Services, Niagara Mohawk Power Corp., Nine Energy Services, LLC, Nordic Electric, L.L.C., Nordic Energy Barge 1 & 2, L.L.C., Nordic Marketing, L.L.C., North American Energy Conservation, Inc., North American Energy, L.L.C., North Atlantic Utilities Inc., North Carolina Power Holdings, LLC, North Star Power Marketing, LLC, North Western Energy Marketing, LLC, Northeast Electricity Inc., Northeast Empire L.P. #2, Northwest Regional Power, LLC, Northwestern Wind Power, LLC, Oceanside Energy, Inc., ODEC Power Trading, Inc., Old Mill Power Company, P&T Power Company, Peak Energy, Inc., Peak Power Generating Company, People's Electric Corp., Phoenix Wind Power LLC, Power Dynamics, Inc., Power Exchange Corporation, Power Management Co., LLC, Power Providers Inc., Power Systems Group, Inc., Powertec International, LLC, Primary Power Marketing, L.L.C., Pro-Energy Development LLC, Progas Power Inc., Proliance Energy, L.L.C., PS Energy Group, Inc., Questar Energy Trading Company, Rayburn Country Electric Cooperative, Inc., Renewable Energy Resources LLC, Ridge Crest Wind Partners, LLC, SEMCOR Energy, SF Phosphates Limited Company, LLC, Shell Energy Services Company, LLC, Southwood 2000, Inc., Stand Energy Corporation, STI Capital Company, Storm Lake Power Partners I, LLC, Storm Lake Power Partners II LLC, Strategic Energy LLC, Strategic Energy Management Corp., Strategic Power Management, Inc., Sunoco Power Marketing, L.L.C., Sunrise Power Company, Symmetry Device Research, Inc., Tacoma Energy Recovery Company, Tennessee Power Company, Texaco Natural Gas Inc., Texas-New Mexico Power Co., The Energy Group of America, Inc., The Legacy Energy Group, LLC, Thicksten Grimm Burgum, Inc., Thompson River Co-Gen, LLC, Tiger Natural Gas, Inc., TransAlta Centralia Generation LLC, TransAlta Energy Marketing (CA) Inc., TransAlta Energy Marketing (US) Inc., TransAlta Energy Marketing Corp., TransAlta Energy Marketing Corp. (US), TransCanada Energy Ltd., TransCanada Power Marketing Ltd., Travis Energy & Environment, Inc., Tri-Valley Corporation, TXU Electric Delivery Company, U.S. Power & Light, Inc., United American Energy Corp., United Illuminating Company, VIASYN, Inc., Walton County Power, LLC, Washington Gas Energy Services, Inc., Western Energy Marketers, Inc. and Western New York Wind Corporation; Notice of Institution of Proceeding and Refund Effective Date.

On May 31, 2005, the Commission issued an order that instituted a proceeding in Docket No. EL05-111-000, pursuant to section 206 of the Federal Power Act (FPA), 16 U.S.C. 824e, concerning the justness and reasonableness of the market-based rates of the above-captioned sellers. 3E Technologies, Inc., et al., 111 FERC ¶ 61,295 (2005).

The refund effective date in Docket No. EL05-111-000, established pursuant to section 206(b) of the FPA, will be 60 days from the date of publication of this notice in the Federal Register.

Magalie R. Salas,
Secretary.

[FR Doc. E5-2990 Filed 6-9-05; 8:45 am]

BILLING CODE 6717-01-P